FEDERAL COMMUNICATIONS COMMISSION

47 CFR Part 73

[DA 04-3230; MB Docket No. 03-5; RM-10393]

Radio Broadcasting Services; Maplesville, AL

AGENCY: Federal Communications Commission.

ACTION: Final rule.

SUMMARY: In response to a Notice of Proposed Rulemaking, 69 FR 34632 (June 22, 2004), issued at the request of Alatron Corporation, Inc., this document grants the allotment of Channel 292A at Maplesville, Alabama, as the community's first local aural transmission service. The coordinates for Channel 292A at Maplesville are 32-41-06 NL and 86-53-30 WL. An engineering analysis has determined that Channel 292A can be allotted at Maplesville at a site 11.6 kilometers (7.2 miles) south of the community. A filing window for Channel 292A at Maplesville, Alabama will not be opened at this time. Instead, the issue of opening a filing window for this channel will be addressed by the Commission in a subsequent order.

DATES: Effective November 29, 2004.

ADDRESSES: Federal Communications Commission, Washington, DC 20554.

FOR FURTHER INFORMATION CONTACT: Victoria McCauley, Media Bureau, (202) 418-2180.

SUPPLEMENTARY INFORMATION: This is a synopsis of the Commission's Report and Order, MB Docket No. 03-5, adopted October 13, 2004, and released October 15, 2004. The full text of this Commission decision is available for inspection and copying during regular business hours in the FCC's Reference Information Center at Portals II, 445 12th Street, SW., CY-A257, Washington, DC, 20554. This document may also be purchased from the Commission's duplicating contractors, Best Copy and Printing, Inc., 445 12th Street, SW., Room CY-B402, Washington, DC 20554, telephone 1-800-378-3160 or http://www.BCPIWEB.com.

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, and 336.

§ 73.202 [Amended]

2. Section 73.202(b), the Table of FM Allotments under Alabama, is amended by adding Maplesville, Channel 292A.

Federal Communications Commission.
John A. Karousos,
Assistant Chief, Audio Division, Media Bureau.

[FR Doc. 04-24436 Filed 11-1-04; 8:45 am]

BILLING CODE 6712-01-P